LIBRARY OF CONGRESS

Copyright Royalty Board

[Docket Nos. 19-CRB-0010-CD (2018), 20-CRB-0010-CD (2019), 21-CRB-0008-CD (2020)]

Distribution of 2018 Cable Royalty Funds, Distribution of 2019 Cable Royalty Funds, Distribution of 2020 Cable Royalty Funds

AGENCY: Copyright Royalty Board, Library of Congress.

ACTION: Notice requesting comments.

SUMMARY: The Copyright Royalty Judges solicit comments on a motion of Multigroup Claimants for partial distribution of 2018, 2019, and 2020 cable royalty funds.

DATES: Comments are due on or before November 24, 2023.

ADDRESSES: Interested claimants must submit timely comments using eCRB, the Copyright Royalty Board's online electronic filing application, at https://app.crb.gov/.

Instructions: All submissions must include a reference to the CRB and docket numbers 19-CRB-0010-CD (2018), 20-CRB-0010-CD (2019), and 21-CRB-0008-CD (2020). All submissions will be posted without change to eCRB at https://app.crb.gov/ including any personal information provided.

Docket: For access to the docket to read submitted background documents or comments, go to eCRB, the Copyright Royalty Board's online electronic filing and case management system, at https://app.crb.gov/ and search for docket number 19-CRB-0010-CD (2018), 20-CRB-0010-CD (2019), or 21-CRB-0008-CD (2020).

FOR FURTHER INFORMATION CONTACT: Anita Brown, CRB Program Specialist, by telephone at (202) 707-7658 or email at crb@loc.gov.

SUPPLEMENTARY INFORMATION: Each year cable systems must submit royalty payments to the Register of Copyrights as required by the statutory license detailed in section 111 of the Copyright Act for the retransmission to cable subscribers of over-the-air television and radio broadcast signals. See 17 U.S.C. 111(d). The Copyright Royalty Judges (Judges) oversee distribution of royalties to copyright owners whose works were included in a qualifying transmission and who file a timely claim for royalties.

Allocation of the royalties collected occurs in one of two ways. In the first instance, the Judges may authorize distribution in accordance with a negotiated agreement among all claiming parties. 17 U.S.C. 111(d)(4)(A), 803(b)(3)(A). If all claimants do not reach agreement with respect to the royalties, the Judges must conduct a proceeding to determine the distribution of any royalties that remain in controversy. 17 U.S.C. 111(d)(4)(B), 803(b)(3)(B). Alternatively, the Judges may, on motion of claimants and on notice to all interested parties, authorize a partial distribution of royalties, reserving on deposit sufficient funds to resolve identified disputes. 17 U.S.C. 111(d)(4)(C), 801(b)(3)(C).

On April 3, 2023, Worldwide Subsidy Group LLC dba Multigroup Claimants (MGC) filed with the Judges a motion pursuant to section 801(b)(3)(C) of the Copyright Act requesting a partial distribution amounting to $921,778 of the 2018 cable royalty funds on deposit, a partial distribution amounting to $963,466 of the 2019 cable royalty funds on deposit, and a partial distribution amounting to $928,162 of the 2020 cable royalty funds on deposit.¹ That statutory section requires that, before ruling on the motion, the Judges publish a notice in the Federal Register seeking responses to the motion for partial distribution to ascertain whether any claimant entitled to receive the subject royalties has a reasonable objection to the requested distribution. 17 U.S.C. 801(b)(3)(C).

¹ These amounts are based on a formula developed by MGC. Multigroup Claimants' Motion for Partial Distribution of 2018, 2019 and 2020 Cable Royalties at 3-5 (see, e.g., eCRB no. 27958).

Accordingly, this notice seeks comments from interested claimants ² on whether any reasonable objection exists that would preclude the distribution of the requested amounts of the 2018, 2019, and 2020 cable royalty funds to the requesting claimant representatives. Parties objecting to the proposed partial distribution must advise the Judges of the existence and extent of all objections by the end of the comment period. The Judges will not consider any objections with respect to the partial distribution that come to their attention after the close of the comment period.

² The Settling Devotional Claimants filed an opposition to the motion to which MGC filed a reply. The Judges deem that both constitute timely filed comments that they will consider, together with any other comments they receive during the comment period, in determining whether any reasonable objection exists that would preclude the requested distribution to MGC.

Members of the public may read the motion by accessing the Copyright Royalty Board's electronic filing and case management system at https://app.crb.gov and searching for docket number 19-CRB-0010-CD (2018), 20-CRB-0010-CD (2019), or 21-CRB-0008-CD (2020).

Dated: October 19, 2023.
David P. Shaw,
Chief Copyright Royalty Judge.

[FR Doc. 2023-23524 Filed 10-24-23; 8:45 am]

BILLING CODE 1410-72-P